DEPARTMENT OF HEALTH AND HUMAN SERVICES

Administration for Children and Families

Agency Recordkeeping/Reporting Requirements Under Emergency Review by the Office of Management and Budget (OMB); Comment Request

Title: Sponsorship Review Procedures for Approval for Unaccompanied Alien Children.

OMB No.: 0970-0278.

Description: The Administration for Children (ACF), Office of Refugee Resettlement (ORR) requests the use of emergency processing procedures in accordance with 5 CFR Section 1320.13 to expand the scope of an existing information collection under OMB control number 0970-0278, Reunification Procedures for Unaccompanied Alien Children, renamed to Sponsorship Review Procedures for Approval of Unaccompanied Alien Children. The information collection will allow ACF to conduct suitability assessments to vet potential sponsors of unaccompanied alien children in accordance with a Memorandum of Agreement (MOA) between ORR and the Department of Homeland Security. Specifically, the information collection allows ORR to obtain biometric and biographical information from sponsors, adult members of their household, and adult care givers identified in a sponsor care plan, where applicable. ORR in turn shares the information collected with other federal departments to conduct background checks. ORR intends the instruments used in this submission to be available for use by mid-May 2018.

ACF cannot reasonably comply with the normal clearance procedures because the use of normal clearance procedures is reasonably likely to prevent the collection of needed information in a timely manner. Complying with the normal clearance procedures would delay or disrupt ORR's ability to expand the background checks in order to more comprehensively evaluate the suitability of potential sponsors of unaccompanied alien children, and to ensure safe and appropriate placement of children. The information collection is essential to the mission of the agency.

Respondents: Sponsors, adult household members, parents or legal guardians of unaccompanied alien children.

Instrument | Number of respondents | Number of responses per respondent | Average burden hours per response | Total burden hours
Family reunification application | 50,000 | 1 | 0.5 | 25,000
Authorization for Release of Information | 90,000 | 1 | 0.25 | 22,500
Fingerprint Instructions | 90,000 | 1 | 1 | 90,000
Letter of Designation | 25,000 | 1 | 0.25 | 6,250

Estimated Total Annual Burden per Respondent: 143,750.

Additional Information:

ACF is requesting that OMB grant approval for this information collection under procedures for emergency processing through October 31, 2018, the expiration date for the already approved information collection. ACF requests approval of the expanded information collection by May 11, 2018. Although ACF is seeking immediate approval of the specific aspects of the information collection described above, ACF is also soliciting public comment on these aspects of the information collection and on the information collection more generally.

Copies of the proposed collection of information for emergency processing and public comment can be obtained at reginfo.gov by searching for OMB Control No. 0970-0278. Comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 11, 2018.
Naomi Goldstein,
Deputy Assistant Secretary for Planning, Research, and Evaluation.

[FR Doc. 2018-10452 Filed 5-11-18; 4:15 pm]

BILLING CODE 4184-01-P